DEPARTMENT OF AGRICULTURE

Animal and Plant Health Inspection Service

[Docket No. 00-113-2]

Public Meeting; Veterinary Biologics

AGENCY: Animal and Plant Health Inspection Service, USDA.

ACTION: Notice of public meeting.

SUMMARY: This is the second notice to producers of veterinary biological products, product users, and other interested persons that we are holding our tenth public meeting to discuss regulatory and policy issues related to the manufacture, distribution, and use of veterinary biological products. This notice includes information on the agenda, as well as on the place, dates, and times of the meeting. It also indicates a contact person for obtaining registration forms, lodging information, and copies of the agenda.

DATES: The public meeting will be held on Tuesday and Wednesday, April 10 and 11, 2001, from 8 a.m. to approximately 5 p.m. each day.

ADDRESSES: The public meeting will be held in the Scheman Building at the Iowa State Center, Iowa State University, Ames, IA.

FOR FURTHER INFORMATION CONTACT: For information concerning registration and agenda topics, contact Ms. Kathy Clark, Center for Veterinary Biologics, Veterinary Services, APHIS, 510 South 17th Street, Suite 104, Ames, IA 50010-8197; phone (515) 232-5785; fax (515) 232-7120; or e-mail Kathryn.K.Clark@usda.gov.

SUPPLEMENTARY INFORMATION: The Animal and Plant Health Inspection Service (APHIS) has previously announced that it is scheduling the tenth public meeting on veterinary biologics in Ames, IA, on April 10 and 11, 2001 (see 65 FR 69729, Docket No. 00-113-1). In that notice, APHIS requested that interested persons submit suggestions for agenda topics. Based on the submissions received and on other considerations, the agenda for the tenth public meeting includes, but is not limited to, the following:

• International harmonization;

• Labeling;

• Animal care;

• Target animal safety;

• Duration of immunity/efficacy; and

• Updates on current topics of interest.

In addition to the above topics, we will also hold a breakout session to discuss rabies vaccine testing. During the “open discussion” portion of the meeting, attendees will have the opportunity to present their views on any matter concerning the APHIS veterinary biologics program. Comments may be either impromptu or prepared. Persons wishing to make a prepared statement should indicate their intention to do so at the time of registration by indicating the subject of their remarks and the approximate amount of time they would like to speak. APHIS welcomes and encourages the presentation of comments at the meeting.

Registration forms, lodging information, and copies of the agenda for the tenth public meeting maybe obtained from the person listed under FOR FURTHER INFORMATION CONTACT. This information is also accessible on the world wide web at the following address: http://www.aphis.usda.gov/vs/cvb.

Done in Washington, DC, this 20th day of March 2001.
Craig A. Reed,
Administrator, Animal and Plant Health Inspection Service.

[FR Doc. 01-7263 Filed 3-21-01; 8:45 am]

BILLING CODE 3410-34-U